DEPARTMENT OF COMMERCE

Patent and Trademark Office

Agency Information Collection Activities; Submission to the Office of Management and Budget (OMB) for Review and Approval; Comment Request; Applications for Trademark Registration

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on December 18, 2020 during a 60-day comment period. This notice allows for an additional 30 days for public comments.

Agency: United States Patent and Trademark Office, Department of Commerce.

Title: Applications for Trademark Registration.

OMB Control Number: 0651-0009.

Form Numbers:

• PTO 1478 (Trademark/Service Mark Application, Principal Register)

• PTO 1479 (Trademark/Service Mark Form, Supplemental Register)

• PTO 1480 (Certification Mark Form, Principal Register)

• PTO 1481 (Collective Membership Mark Form, Principal Register)

• PTO 1482 (Collective Trademark/Service Mark Form, Principal Register)

Type of Review: Extension and revision of a currently approved information collection.

Number of Respondents: 506,837 respondents per year.

Average Hour per Response: The USPTO estimates that it takes the public approximately 40 minutes (0.67 hours) to 50 minutes (0.83 hours), depending on the complexity of the situation, to gather the necessary information, prepare the appropriate documents, and submit the information to the USPTO.

Estimated Total Annual Respondent Burden Hours: 377,830 hours.

Estimated Total Annual Non-Hour Cost Burden: $151,994,532.

Needs and Uses: The United States Patent and Trademark Office (USPTO) administers the Trademark Act, 15 U.S.C. 1051 et seq., which provides for the Federal registration of trademarks, service marks, collective trademarks and service marks, collective membership marks, and certification marks. Individuals and businesses who use their marks, or intend to use their marks, in commerce regulated by Congress may file an application with the USPTO to register their marks. Registered marks remain on the register indefinitely, so long as the owner of the registration files the necessary maintenance documents.

This information collection addresses submissions required by the regulations at 37 CFR part 2 for initial applications regarding the registration of trademarks, service marks, collective trademarks and service marks, collective membership marks, and certification marks. Trademarks can be registered on either the Principal or Supplemental Register. The Trademark Act and regulations mandate that each certificate of registration include the mark, the goods and/or services in connection with which the mark is used, ownership information, dates of use, and certain other information. The USPTO also provides similar information concerning pending applications. The register and pending application information may be accessed by an individual or by businesses to determine the availability of a mark. By accessing the USPTO's information, parties may reduce the possibility of initiating use of a mark previously adopted by another.

Affected Public: Private sector; individuals or households.

Frequency: On occasion.

Respondent's Obligation: Required to Obtain or Retain Benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0009.

Further information can be obtained by:

• Email: InformationCollection@uspto.gov. Include “0651-0009 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2021-03915 Filed 2-24-21; 8:45 am]

BILLING CODE 3510-16-P